DEPARTMENT OF COMMERCE

National Oceanic and Atmospheric Administration

[I.D. 021606C]

Endangered Species; File No. 1556

AGENCY: National Marine Fisheries Service (NMFS), National Oceanic and Atmospheric Administration (NOAA), Commerce.

ACTION: Notice; receipt of application.

SUMMARY: Notice is hereby given that the Commonwealth of the Northern Mariana Islands, USA (CNMI), Division of Fish and Wildlife [Paul Hamilton, responsible official], P.O. Box 10007, Saipan, Mariana Islands 96950, has applied in due form for a permit to take green (Chelonia mydas), and hawksbill (Eretmochelys imbricata) sea turtles for purposes of scientific research.

DATES: Written, telefaxed, or e-mail comments must be received on or before March 27, 2006.

ADDRESSES: The application and related documents are available for review upon written request or by appointment in the following offices:

Permits, Conservation and Education Division, Office of Protected Resources, NMFS, 1315 East-West Highway, Room 13705, Silver Spring, MD 20910; phone (301) 713-2289; fax (301) 427-2521; and

Pacific Islands Region, NMFS, 1601 Kapiolani Blvd., Rm 1110, Honolulu, HI 96814-4700; phone (808) 973-2935; fax (808) 973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1556.

FOR FURTHER INFORMATION CONTACT: Kate Swails or Patrick Opay, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The CNMI Division of Fish and Wildlife proposes to perform sea turtle surveys in the waters of the Mariana Islands, USA. The project would consist of shoreline/cliff line assessments, in-water tow dive assessments, and the hand capture of sea turtles. Turtles would be handled, measured, tissue-sampled, flipper tagged, passive integrated transponder tagged, and released. The applicant would capture 100 green and 40 hawksbill sea turtles annually. A subset of the turtles would be outfitted with a satellite tag. The permit would be issued for five years.

Dated: February 17, 2006.
Stephen L. Leathery,
Chief, Permits, Conservation and Education Division, Office of Protected Resources, National Marine Fisheries Service.

[FR Doc. E6-2675 Filed 2-23-06; 8:45 am]

BILLING CODE 3510-22-P